Proclamation 9310 of August 31, 2015

National Childhood Cancer Awareness Month, 2015

By the President of the United States of America

A Proclamation

Pediatric cancer affects thousands of young Americans each year. It is the leading cause of disease-related death for children, and this year, more than 10,000 of our Nation's youth will be diagnosed with this tragic disease. Every September, America honors all those who have been affected by this life-threatening illness: young girls and boys whose childhoods have been cut short, the loved ones who know the pain pediatric cancer causes, and the communities across our country that rally to support their friends and neighbors during difficult times. As a Nation, we come together to stand with those who have experienced devastating loss, and we renew our commitment to advance research, improve treatment, and ensure a brighter, healthier future for all young Americans.

Over the past 35 years, mortality rates for some types of pediatric cancer have declined by more than 50 percent, and thanks to major advancements in research and treatment efforts, our Nation has significantly improved its understanding and response to this disease. Today, innovative studies are leading to real breakthroughs—reminding us of the importance of supporting scientific discovery and moving our Nation closer to finding cures. Despite these gains, the specific causes of pediatric cancer remain largely unknown, and much work still remains to be done.

My Administration is committed to advancing the fight against childhood cancer by supporting the vital studies that will continue to build on this progress. Last year, I signed the Gabriella Miller Kids First Research Act, which established the 10-Year Pediatric Research Initiative Fund, and I will keep urging the Congress to continue investing the millions of dollars available in this fund to support medical innovation and life-changing breakthroughs. I was also proud to appoint a pediatric oncologist to the National Cancer Advisory Board earlier this year. And this past January, I announced my Administration's Precision Medicine Initiative, which invests in research to better understand cancer and other diseases, helping the United States lead a new era of medicine—one that delivers the right treatment at the right moment.

Childhood cancer is devastating, and as families face the enormous burdens it brings, they deserve the security that comes with access to quality, affordable health care. Under the Affordable Care Act, children cannot be denied health insurance due to pre-existing conditions such as cancer. Provisions in the law also eliminate annual and lifetime dollar limits on coverage and prohibit insurance companies from denying participation in an approved clinical trial for cancer or another life-threatening disease.

Pediatric cancer limits the dreams of too many of our Nation's daughters and sons and deprives our country of their enormous potential. During National Childhood Cancer Awareness Month, we remember the many children who have been taken from us too soon, and we extend our support to all those who continue to battle this illness with incredible strength and courage. Let us honor those on the front lines—the health care providers, researchers, community organizations, and advocacy groups—who work tirelessly to ensure our Nation's youth have every opportunity to grow and thrive, and let us renew our commitment to forging a future free from cancer in all its forms.

NOW, THEREFORE, I, BARACK OBAMA, President of the United States of America, by virtue of the authority vested in me by the Constitution and the laws of the United States, do hereby proclaim September 2015 as National Childhood Cancer Awareness Month. I encourage all citizens, government agencies, private businesses, non-profit organizations, and other groups to join in activities that will increase awareness and prevention of childhood cancer.

IN WITNESS WHEREOF, I have hereunto set my hand this thirty-first day of August, in the year of our Lord two thousand fifteen, and of the Independence of the United States of America the two hundred and fortieth.

[FR Doc. 2015-22328

Filed 9-2-15; 11:15 am]

Billing code 3295-F5